DEPARTMENT OF AGRICULTURE

Rural Housing Service

Notice of Funds Availability for the Section 533 Housing Preservation Grants for Fiscal Year 2009

AGENCY: Rural Housing Service, USDA.

ACTION: Notice; correction.

SUMMARY: In notice document Z9-10645 beginning on page 26365 in the issue of Tuesday June 2, 2009, make the following corrections:

In the second and third column, the list of State Offices, addresses, telephone numbers, and contact persons is reprinted to read as set forth below:

Florida & Virgin Islands State Office, 4440 NW. 25th Place, Gainesville, Florida 32606-6563, (352) 338-3465, TDD (352) 338-3499, Tresca Clemmons.

Michigan State Office, 3001 Coolidge Road, Suite 200, East Lansing, Michigan 48823, (517) 324-5199, TDD (517) 337-6795, Ghulam Sumbal.

New Mexico State Office, 6200 Jefferson Street, NE., Room 255, Albuquerque, New Mexico 87109, (505) 761-4944, TDD (505) 761-4938, Susan Guana.

FOR FURTHER INFORMATION CONTACT: Bonnie Edwards-Jackson, Finance and Analyst, Multi-Family Housing Preservation and Direct Loan Division, USDA Rural Development, Stop 0781, 1400 Independence Avenue, SW., Washington, DC, 20250-0781, telephone (202) 690-0759 (voice) (this is not a toll free number) or (800) 877-8339 (TDD-Federal Information Relay Service) or via e-mail at Bonnie.Edwards@wdc.usda.gov.

Dated: June 10, 2009.
Tammye Trevino,
Administrator, Rural Housing Service.

[FR Doc. E9-14259 Filed 6-16-09; 8:45 am]

BILLING CODE 3410-XV-P